DEPARTMENT OF THE INTERIOR

Bureau of Land Management

[AZ-956-05-1420-BJ]

Notice of Filing of Plats of Survey; Arizona

AGENCY: Bureau of Land Management, Interior.

ACTION: Notice.

SUMMARY: The plats of survey described below are scheduled to be officially filed in the Arizona State Office, Bureau of Land Management, Phoenix, Arizona, (30) thirty calendar days from the date of this publication.

SUPPLEMENTARY INFORMATION:

The Gila and Salt River Meridian, Arizona

The plat (in 2 sheets) representing the dependent resurvey of a portion of the second guide meridian east, a portion of the north boundary, a portion of the subdivisional lines, portions of general number 19 and mineral survey no. 4313 A, and a portion of Sunrise No. 12 mining claim and subdivision of sections 1 and 2, Township 18 South, Range 10 East, accepted August 11, 2004, and officially filed August 13, 2004, for Group 932 Arizona.

This plat was prepared at the request of the Bureau of Land Management.

The plat representing the dependent resurvey of a portion of the subdivisional lines and the subdivision of sections 9 and 10, in Townships 10 North, Range 22 East, accepted August 17, 2004, and officially filed August 26, 2004, for Group 919 Arizona.

The plat was prepared at the request of the United States Forest Service.

The plat representing the dependent resurvey of a portion of the sixth standard parallel north, (south boundary), Township 25 North, Range 25 East, accepted August 13, 2004, and officially filed August 19, 2004, for Group 886 Arizona.

This plat was prepared at the request of the Bureau of Indian Affairs, Navajo Regional Office.

The plat (in 3 sheets) representing the dependent resurvey of a portion of the subdivisional lines and the subdivision of sections 9, 10 and 14, Township 18 South, Range 29 East, accepted June 29, 2004, and officially filed July 9, 2004, for Group 884 Arizona.

This plat was prepared at the request of the United States Forest Service.

The plat representing the dependent resurvey of portions of the Arizona-New Mexico State Line between the 96 mile post and the 113 mile post and between the 113 1.2 mile post and the 115 mile post, Township 23 North, Range 31 East, and Township 24 and 25 North, Range 31 East accepted July 2, 2004, and officially filed July 15, 2004, for Group 880 Arizona.

This plat was prepared at the request of the Bureau of Indian Affairs, Navajo Regional Office.

The plat representing the resurvey of the south boundary and survey of the subdivisional lines Township 24 North, Range 31 East, accepted July 30, 2004, and officially filed August 6, 2004, for Group 880 Arizona.

This plat was prepared at the request of the Bureau of Indian Affairs, Navajo Regional Office.

The plat representing the dependent resurvey of the portion of the sixth standard parallel north, a portion of the subdivisional lines and the subdivision of section 12 in Township 25 North, Range 30 East, accepted May 18, 2004, and officially filed May 26, 2004, for Group 880 Arizona.

This plat was prepared at the request of the Bureau of Indian Affairs, Navajo Regional Office.

The plat representing the dependent resurvey of the sixth standard parallel north, and the west and a portion of the north boundaries and the survey of the subdivisional, Township 25 North, Range 31 East, accepted July 2, 2004, and officially filed July 15, 2004, for Group 880 Arizona.

This plat was prepared at the request of the Bureau of Indian Affairs, Navajo Regional Office.

If a protest against a survey, as shown on any of the above plats is received prior to the date of official filing, the filing will be stayed pending consideration of the protest. A plat will not be officially filed until the day after all protests have been dismissed and become final or appeals from the dismissal affirmed.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, P.O. Box 1552, Phoenix, Arizona, 85001-1552.

Dated: October 6, 2004.
Stephen K. Hansen,
Acting Cadastral Chief.

[FR Doc. 04-24156 Filed 10-28-04; 8:45 am]

BILLING CODE 4310-32-M